ENVIRONMENTAL PROTECTION AGENCY

[FRL-12498-01-R9]

Approval of Clean Air Act General Permit Request for Coverage for New Minor Source Gasoline Dispensing Facility in Indian Country Within California for Viejas Pit Stop

AGENCY: Environmental Protection Agency (EPA).

ACTION: Notice of final action.

SUMMARY: This notice announces that the U.S. Environmental Protection Agency (EPA), Region 9, issued an approval to the Viejas Band of Kumeyaay Indians under the Clean Air Act's Tribal Minor New Source Review (NSR) Program. The EPA approved the Viejas Band of Kumeyaay Indians' Request for Coverage under the General Air Quality Permit for New or Modified Minor Source Gasoline Dispensing Facilities in Indian Country within California for the Viejas Pit Stop. This approval authorizes the construction of the Viejas Pit Stop under the Tribal Minor NSR Program.

DATES: The EPA's approval of the Request for Coverage for the Viejas Pit Stop was issued by the EPA and became effective on September 18, 2024. Pursuant to section 307(b)(1) of the Clean Air Act, judicial review of this final agency decision, to the extent it is available, may be sought by filing a petition for review in the United States Court of Appeals for the Ninth Circuit within 60 days of March 17, 2025.

FOR FURTHER INFORMATION CONTACT: Ashley Miller, EPA Region 9, (415) 972-3829, Miller.ashley01@epa.gov. The EPA's final approval decision, the Technical Support Document for this action, and all other supporting information are available through www.regulations.gov under Docket ID No. EPA-R09-OAR-2024-0084.

SUPPLEMENTARY INFORMATION:

Notice of Final Action

The EPA approved the Viejas Band of Kumeyaay Indians' Request for Coverage under the General Air Quality Permit for New or Modified Minor Source Gasoline Dispensing Facilities in Indian Country (Gasoline Dispensing Facility General Permit) on September 18, 2024.¹ This approval pertains to the construction and operation of the Viejas Pit Stop (Source), a gasoline dispensing facility, to be located on the Viejas Band of Kumeyaay Indians Reservation, in Alpine, California. The EPA issued the approval pursuant to the provisions of Clean Air Act sections 110(a) and 301(d) and the EPA's Tribal Minor NSR Program at 40 CFR 49.151-49.164. The EPA based its approval on its determination that the Source meets the criteria qualifying it for coverage and that the Source is eligible for coverage under the Gasoline Dispensing Facility General Permit.

¹ The Gasoline Dispensing Facility General Permit was issued by the EPA under the Tribal Minor NSR Program on May 1, 2019, and the permit became effective June 12, 2019. 84 FR 20879 (May 13, 2019). This permit is available at https://www.epa.gov/caa-permitting/air-permits-gas-stations-tribal-lands-california.

The EPA's Clean Air Act approval for the Source is a final agency action for purposes of judicial review only for the issue of whether the Source qualifies for coverage under the Gasoline Dispensing Facility General Permit. 40 CFR 49.156(e)(6).

Dated: January 8, 2025.
Martha Guzman Aceves,
Regional Administrator, Region IX.

[FR Doc. 2025-00887 Filed 1-15-25; 8:45 am]

BILLING CODE 6560-50-P